DEPARTMENT OF DEFENSE

Office of the Secretary

[Docket ID: DOD-2010-OS-0044]

Privacy Act of 1974; Systems of Records

AGENCY: Defense Logistics Agency, DoD.

ACTION: Notice to alter a system of records.

SUMMARY: The Defense Logistics Agency proposes to alter a system of records notice in its existing inventory of records systems subject to the Privacy Act of 1974, (5 U.S.C. 552a), as amended.

DATES: This proposed action will be effective without further notice on May 14, 2010 unless comments are received which result in a contrary determination.

ADDRESSES: You may submit comments, identified by docket number and title, by any of the following methods:

* Federal Rulemaking Portal: http://www.regulations.gov. Follow the instructions for submitting comments.

* Mail: Federal Docket Management System Office, 1160 Defense Pentagon, Washington, DC 20301-1160.

Instructions: All submissions received must include the agency name and docket number for this Federal Register document. The general policy for comments and other submissions from members of the public is of make these submissions available for public viewing on the Internet at http://www.regulations.gov as they are received without change, including any personal identifiers or contact information.

FOR FURTHER INFORMATION CONTACT: Ms. Jody Sinkler at (703) 767-5045.

SUPPLEMENTARY INFORMATION: The Defense Logistics Agency systems of records notices subject to the Privacy Act of 1974, (5 U.S.C. 552a), as amended, have been published in the Federal Register and are available from the Privacy Act Officer, Headquarters, Defense Logistics Agency, ATTN: DGA, 8725 John J. Kingman Road, Stop 16443, Fort Belvoir, VA 22060-6221.

The proposed system reports, as required by 5 U.S.C. 552a(r), of the Privacy Act of 1974, as amended, were submitted on March 31, 2010, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996; 61 FR 6427).

Dated: April 9, 2010.
Mitchell S. Bryman,
Alternate OSD Federal Register Liaison Officer, Department of Defense.

S500.20

SYSTEM NAME:

Defense Logistics Agency (DLA) Criminal Incident Reporting System Records (DCIRS) (June 8, 2009; 74 FR 27119)

CHANGES:

* * * * *

SYSTEM LOCATION:

Add “and 6801 Telegraph Road, Alexandria, VA 22310-3398.” to the end of the sentence in the first paragraph within the entry.

* * * * *

CATEGORIES OF RECORDS IN THE SYSTEM:

Add “Reports of Inquiry, Reports of Initiatives,” to the entry after “...Police Incident Reports,”.

* * * * *

EXEMPTIONS CLAIMED FOR THE SYSTEM:

Delete entry and replace with “Investigatory material compiled for law enforcement purposes, other than material within the scope of subsection 5 U.S.C. 552a(j)(2), may be exempt pursuant to 5 U.S.C. 552a(k)(2). However, if an individual is denied any right, privilege, or benefit for which he would otherwise be entitled by Federal law or for which he would otherwise be eligible, as a result of the maintenance of the information, the individual will be provided access to the information, except to the extent that disclosure would reveal the identity of a confidential source. NOTE: When claimed, this exemption allows limited protection of investigative reports maintained in a system of records used in personnel or administrative actions.

An exemption rule for this system has been promulgated in accordance with requirements of 5 U.S.C. 553(b)(1), (2), and (3), (c) and (e) published in 32 CFR part 323. For additional information contact the system manager.”

S500.20

SYSTEM NAME:

Defense Logistics Agency (DLA) Criminal Incident Reporting System Records (DCIRS).

SYSTEM LOCATION:

Enterprise Data Center East, 8180 Green Meadows Drive, Lewis Center, OH 43035-9605 and 6801 Telegraph Road, Alexandria, VA 22310-3398.

Records may also be maintained within the DLA Offices that use these records in the performance of their official duties located at Headquarters, Defense Logistics Agency, 8725 John J. Kingman Road, Fort Belvoir, VA 22060-6221 and the DLA Primary Level Field Activities.

CATEGORIES OF INDIVIDUALS COVERED BY THE SYSTEM:

Civilian and military personnel of DLA, contractor employees, and other persons who have committed or are suspected of having committed, any criminal act (felony or misdemeanor) or any violations of laws, regulations, or ethical standards on DLA controlled activities or facilities; or outside of those areas in cases where DLA is or may be a party of interest.

Individuals or companies who purchase or seek to purchase excess or surplus personal property from the Department of Defense (DoD) where that property is either U.S. Munitions List or Commerce Control List property.

CATEGORIES OF RECORDS IN THE SYSTEM:

Individual's name, address and telephone number, Reports of Preliminary Inquiry, Criminal Information Reports, Reports of Referral, Reports of Investigation, Police Incident Reports, Reports of Inquiry, Reports of Initiatives, Trade Security Controls Assessment Records, Reports of Post Sale Investigation, Crime Vulnerability Assessments, Response to Leads, Reports of Outreach, Reports of Corrective Action, Commander or Director's Reports of Corrective Action, invoices, sales contracts, messages, statements of witnesses, subjects, and victims, photographs, laboratory reports, data collection reports, and other related papers by DLA Investigators, Security Officers, Federal, State, and local law enforcement and investigative agencies.

AUTHORITY FOR MAINTENANCE OF THE SYSTEM:

The Omnibus Crime Control Act of 1994; Section 21, Internal Security Act of 1950 (Pub. L. 831, 81st Congress); DoD Directive 5105.22, Defense Logistics Agency (32 CFR part 359); DoD Directive 5105.42, Defense Security Service (32 CFR part 361); DoD Directive 7730.47, Defense Incident-Based Reporting System; DoD Instruction 2030.8, Trade Security Controls on DoD Excess and Surplus Personal Property; DoD Instruction 5240.4, Reporting of Counterintelligence and Criminal Violations; DoD Instruction 5505.2, Criminal Investigations of Fraud Offenses; 28 U.S.C. 534, Uniform Federal Crime Reporting Act; 18 U.S.C. 922, Brady Handgun Violence Prevention Act of 1994; 42 U.S.C. 10601, Victim Rights and Restitution Act of 1990; 10 U.S.C. 1562,Database on Domestic Violence Incidents and E.O. 9397 (SSN), as amended.

PURPOSE(S):

Information in this system is used by Investigations Division, DLA Accountability Office, and the DLA Office of General Counsel personnel to monitor progress of cases and to develop non-personal statistical data on crime and criminal investigative support for the future. DLA General Counsel also uses data to review cases, determine proper legal action, and coordinate on all available remedies. Information is released to DLA managers who use the information to determine actions required to correct the causes of loss and to take appropriate action against DLA employees or contractors in cases of their involvement. Records are also used by DLA to monitor the progress of investigations, identify crime conducive conditions, and prepare crime vulnerability assessments/statistics.

ROUTINE USES OF RECORDS MAINTAINED IN THE SYSTEM, INCLUDING CATEGORIES OF USERS AND THE PURPOSES OF SUCH USES:

In addition to those disclosures generally permitted under 5 U.S.C. 552a(b) of the Privacy Act of 1974, these records may specifically be disclosed outside the DoD as a routine use pursuant to 5 U.S.C. 552a(b)(3) as follows:

To Federal, State, and local agencies having jurisdiction over or investigative interest in the substance of the investigation, for corrective action, debarment, or reporting purposes.

To Government contractors employing individuals who are subjects of an investigation.

To DLA contractors or vendors when the investigation pertains to a person they employ or to a product or service they provide to DoD when disclosure is necessary to accomplish or support corrective action.

The DoD `Blanket Routine Uses' apply to this system of records.

POLICIES AND PRACTICES FOR STORING, RETRIEVING, ACCESSING, RETAINING, AND DISPOSING OF RECORDS IN THE SYSTEM:

STORAGE:

Records may be stored on paper records and/or on electronic storage media.

RETRIEVABILITY:

Hardcopy records filed chronologically by DLA case number and cross-indexed to individual or file name. Automated records are retrievable by name of the individual or firm, DLA case number, DLA Field Activity number or activity code, or keyword.

SAFEGUARDS:

Physical entry is restricted by the use of guards, locks, and administrative procedures. Computer terminals are password controlled with system-generated, forced password-change protocols or also equipped with “Smart Card” technology that requires the insertion of an embedded identification card and entry of a personal identification number (PIN). In addition, computer screens lock after a preset period of inactivity with re-entry controlled by passwording. DCIRS is also password controlled. Access to the database is limited to those DLA personnel who require the records in the performance of their official duties. Employees are periodically briefed on their responsibilities regarding privacy information. All individuals granted access to DCIRS is to have taken Information Assurance and Privacy Act training. Records and computerized files are maintained in areas accessible only to the DLA OI, DLA Offices of Public Safety, and the DLA General Counsel personnel.

RETENTION AND DISPOSAL:

Disposition pending. Until the National Archives and Records Administration has approved the retention and disposal of these records, treat records as permanent.

SYSTEM MANAGER(S) AND ADDRESS:

Staff Director, Investigations Division, DLA Accountability Office, Headquarters, Defense Logistics Agency, 8725 John J. Kingman Road, Stop 2358, Fort Belvoir, VA 22060-6221.

NOTIFICATION PROCEDURE:

Individuals seeking to determine whether information about themselves is contained in this system of records should address written inquiries to the Privacy Act Office, Headquarters, Defense Logistics Agency, ATTN: DGA, 8725 John J. Kingman Road, Suite 1644, Fort Belvoir, VA 22060-6221.

Individual must provide full name, current address and telephone numbers.

RECORD ACCESS PROCEDURES:

Individuals seeking access to information about themselves contained in this system of records should address written inquiries to the Privacy Act Office, Headquarters, Defense Logistics Agency, ATTN: DGA, 8725 John J. Kingman Road, Suite 1644, Fort Belvoir, VA 22060-6221.

Individual must provide full name, current address and telephone numbers.

CONTESTING RECORD PROCEDURES:

The DLA rules for accessing records, for contesting contents, and appealing initial agency determinations are contained in 32 CFR part 323, or may be obtained from the Privacy Act Office, Headquarters, Defense Logistics Agency, ATTN: DGA, 8725 John J. Kingman Road, Suite 1644, Fort Belvoir, VA 22060-6221.

RECORD SOURCE CATEGORIES:

Reports of Preliminary Inquiry, Criminal Information Reports, Reports of Referral, Reports of Investigation, Police Incident Reports, Reports of Inquiry, Reports of Initiatives, Trade Security Controls Assessment Records, Reports of Post Sale Investigation, Crime Vulnerability Assessments, Response to Leads, Reports of Outreach, Reports of Corrective Action, Commander or Director's Reports of Corrective Action, invoices, sales contracts, messages, statements of witnesses, subjects, and victims, photographs, laboratory reports, data collection reports, and other related papers, by DLA Investigators, Security Officers, Federal, State, and local law enforcement and investigative agencies.

EXEMPTIONS CLAIMED FOR THE SYSTEM:

Investigatory material compiled for law enforcement purposes, other than material within the scope of subsection 5 U.S.C. 552a(j)(2), may be exempt pursuant to 5 U.S.C. 552a(k)(2). However, if an individual is denied any right, privilege, or benefit for which he would otherwise be entitled by Federal law or for which he would otherwise be eligible, as a result of the maintenance of the information, the individual will be provided access to the information, except to the extent that disclosure would reveal the identity of a confidential source. Note: When claimed, this exemption allows limited protection of investigative reports maintained in a system of records used in personnel or administrative actions.

An exemption rule for this system has been promulgated in accordance with the requirements of 5 U.S.C. 553(b)(1), (2), and (3)(c) and (e) and is published at 32 CFR part 323. For more information contact the system manager.

[FR Doc. 2010-8506 Filed 4-13-10; 8:45 am]

BILLING CODE 5001-06-P